ENVIRONMENTAL PROTECTION AGENCY

[EPA-HQ-OPP-2011-1036; FRL—9536-4]

Information Collection Request Submitted to OMB for Review and Approval; Comment Request; Soil Fumigant Risk Mitigation

AGENCY: Environmental Protection Agency (EPA).

ACTION: Notice.

SUMMARY: EPA has submitted the following Information Collection Request (ICR) to the Office of Management and Budget (OMB) for review and approval in accordance with the Paperwork Reduction Act: “Soil Fumigant Risk Mitigation” (EPA ICR No. 2451.01, OMB Control No. 2070-New). This is a request for approval of a new collection. The ICR, which is abstracted below, describes the nature of the information collection activity and its expected burden and costs. Copies of the ICR and related documents are available in the docket.

DATES: Additional comments may be submitted on or before October 15, 2013.

ADDRESSES: Submit your comments, referencing Docket ID Number EPA-HQ-OPP-2011-1036, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

The docket can be viewed online at www.regulations.gov or in person at the EPA Docket Center, WJC West, Room 3334, 1301 Constitution Ave. NW., Washington, DC. The telephone number for the Docket Center is 202-566-1744. For additional information about EPA's public docket, visit http://www.epa.gov/dockets.

FOR FURTHER INFORMATION CONTACT: Ryne Yarger, Field and External Affairs Division (7506P), Office of Pesticide Programs, Environmental Protection Agency, 1200 Pennsylvania Ave. NW., Washington, DC 20460; telephone number: (703) 605-1193; fax number: (703) 305-5884; email address: yarger.ryne@epa.gov.

SUPPLEMENTARY INFORMATION: EPA submitted the following ICR to OMB for review and approval in accordance with the Paperwork Reduction Act (44 U.S.C. 3501 et seq.), and the procedures in 5 CFR 1320.12.

Prior Public Notice: Pursuant to 5 CFR 1320.8(d), EPA announced and provided a 60-day public comment period on the information collection activities as described in this ICR (77 FR 39699, July 5, 2012). EPA did not receive any public comments. This notice allows for an additional 30 days for public comments.

ICR Status: This is a new ICR. Under the PRA, an Agency may not conduct or sponsor and a person is not required to respond to a collection of information unless it displays a currently valid OMB control number. The OMB control numbers for EPA's regulations in title 40 of the CFR, after appearing in the Federal Register, are listed in 40 CFR part 9 and are included on the related collection instrument or form, if applicable.

Abstract: EPA will use the information collected under this new ICR to ensure that the identified risk mitigation measures necessary for reregistration eligibility for certain soil fumigant chemicals are adequately implemented. Under section 3(c)(2)(B) of the Federal Insecticide, Fungicide, and Rodenticide Act (FIFRA), pesticide registrants must generate and submit data to the Agency when such data are needed to maintain an existing registration of a pesticide.

In June 2009, after an extensive public review process, EPA completed Reregistration Eligibility Decisions (REDs) for a group of soil fumigant chemicals that takes into account the best available information on the potential risks and benefits of soil fumigant use. As discussed in the RED, the Agency determined that certain uses of the soil fumigants are eligible for reregistration, provided that the risk mitigation measures outlined in the REDs are adopted. This ICR estimates the burden on respondents related to the implementation of these risk mitigation measures.

Form Numbers: None.

Respondents/affected entities: Entities potentially affected by this ICR are certified applicators and agricultural pesticide handlers, soil fumigant registrants, state and tribal lead agencies, and EPA.

Respondent's obligation to respond: Responses to this collection of information are required to obtain or retain a benefit (i.e., registration of the soil fumigant uses identified).

Estimated number of respondents: 17,853.

Frequency of response: On occasion.

Total estimated annual burden: 197,646 hours. Burden is defined at 5 CFR 1320.3(b).

Total estimated annual cost: $7,243,472, includes $808,800 in annual capital or operation & maintenance costs.

Changes in the Estimates: This is a new ICR.

John Moses,
Director, Collection Strategies Division.

[FR Doc. 2013-22216 Filed 9-11-13; 8:45 am]

BILLING CODE 6560-50-P